DEPARTMENT OF ENERGY

Federal Energy Regulatory Commission

[Docket No. CP00-422-000]

El Paso Natural Gas Company; Notice of Application

August 9, 2000.

Take notice that on July 31, 2000, El Paso Natural Gas Company (El Paso), a Delaware corporation, whose mailing address is Post Office Box 1492, El Paso, Texas, 79978, filed an application at Docket No. CP00-422-000, pursuant to sections 7(b) and 7(c) of the Natural Gas Act (NGA) and section 157.5, et seq., of the Federal Energy Regulatory Commission's (Commission) Regulations under the NGA, for permission and approval to abandon in place certain existing mainline compression facilities and for a phased certificate of public convenience and necessity authorizing El Paso to initiate the cleaning of the crude oil pipeline by September 15, 2000, and to initiate no later than February 1, 2001, the acquisition of a crude oil pipeline system, the conversion of the crude oil pipeline to a natural gas pipeline, the construction and operation of certain connection, extension, and miscellaneous appurtenant facilities and the operation of the converted pipeline in interstate commerce as a part of El Paso's existing interstate transmission system, all as more fully set forth in the application which is on file with the commission and open to public inspection. This filing may be viewed on the web at http://www.ferc.us/online/rims.htm (202-208-2222).

El Paso indicates that this project in its entirety including both the certification of new facilities and the abandonment of existing compressor facilities is hereinafter referred to as the “Line No. 2000 Project.”

El Paso's application states that the Line No. 2000 Project constitutes an integral part of El Paso's ongoing comprehensive review of its interstate transmission pipeline system. It is indicated that this review, among other things, has taken into account: The existing configuration of El Paso's system; flow patterns and customer forecasted load growth; age of the system; operation and maintenance (O&M) costs; fuel usage; and the location and reliability of a large number of dated reciprocating compressors; as well as the potential for replacement and system enhancements. El Paso states that it undertook this review to specifically determine a pipeline infrastructure that would best position El Paso to provide future service and that would constitute a pipeline system that is environmentally sensitive, operationally flexible, efficient, safe, O&M sensitive, fuel efficient and, if necessary, expandable. Based upon this comprehensive review, El Paso indicates that it has determined that its customers would be best served if El Paso improved the operating characteristics of its interstate system by abandoning certain existing mainline compressor facilities on its South System and concurrently integrating into its system pipeline facilities to replace the abandoned compression. It is stated that this replacement of compression with pipeline is the essence of El Paso's Line No. 2000 Project.

El Paso proposes to acquire from EPNGPC, convert and operate approximately 785 miles of the 1,088-mile 30″ O.D. crude oil pipeline. The 785-mile segment would extend from a point near Ehrenberg, Arizona, to McCamey, Texas. It is stated that El Paso would convert this 785-mile segment from a crude oil transmission pipeline to a natural gas transmission pipeline. El Paso indicates that Line No. 2000 would be physically integrated as a loop of El Paso's existing low pressure South System pipelines. As part of such integration, El Paso states that it will internally clean the pipeline, replace certain segments of Line No. 2000, construct tie-ins and crossovers to the South System, replace and move certain existing valves, and install certain minor appurtenant facilities. Thereafter, El Paso indicates that it will hydrostatically test approximately 506 miles of various segments of Line No. 2000. It is then stated that integration of Line No. 2000 into El Paso's South System will permit El Paso to concurrently abandon in place six existing compressor facilities on the South System. Therefore, El Paso also proposes, as a part of the Line No. 2000 Project, to abandon in place six existing mainline compression facilities along El Paso's South System that will no longer be required for operation of the South System.

El Paso states that the Line No. 2000 Project will be a replacement of horsepower with pipeline and will not increase the existing transport capacity of El Paso's interstate transmission system. It is also indicated that the Line No. 2000 Project will, however, optimize El Paso's system by increasing operational flexibility, lowering O&M costs, saving on fuel, and, if necessary, providing for simple and economical expandability.

El Paso also states that the cost of acquiring and converting Line No. 2000 will be approximately $153,145,335. El Paso also indicates that, when the Line No. 2000 Project is implemented, however, it will continue to charge its existing Part 284 rates for transportation. It is stated that El Paso does not propose to recover the cost of the Line No. 2000 Project until it files its next general system-wide rate filing, which will take effect January 1, 2006. El Paso proposes to place the Line No. 2000 Project into service by July 1, 2001.

Any person desiring to be heard or to make protest with reference to said application should on or before August 30, 2000, file with the Federal Energy Regulatory Commission, 888 First Street, N.E., Washington, D.C. 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

A person obtaining intervenor status will be placed on the service list maintained by the Commission and will receive copies of all documents filed by the Applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for El Paso to appear or be represented at the hearing.

David P. Boergers,
Secretary.

[FR Doc. 00-20631 Filed 8-14-00; 8:45 am]

BILLING CODE 6717-01-M